NUCLEAR REGULATORY COMMISSION

Office of Nuclear Material Safety and Safeguards Consolidated Decommissioning Guidance: Decommissioning Process for Materials Licensees; Notice of Availability

AGENCY: Nuclear Regulatory Commission.

ACTION: Notice of availability.

SUMMARY: The Nuclear Regulatory Commission's (NRC) Office of Nuclear Material Safety and Safeguards (NMSS) is announcing the availability of a final document “Consolidated NMSS Decommissioning Guidance: Decommissioning Process for Materials Licensees” (NUREG-1757, Vol. 1). This document provides guidance for planning and implementing the termination of licenses issued through NMSS's licensing programs. The guidance is intended for NRC staff, licensees, and the public. The guidance was developed in response to the NMSS performance goals, in the NRC's Strategic Plan, of: (1) making NRC activities and decisions more effective, efficient, and realistic; and (2) reducing unnecessary regulatory burden on stakeholders. The guidance in final NUREG-1757, Volume 1, should be used by fuel cycle, fuel storage, and materials licensees in preparing decommissioning license amendment requests, decommissioning plans, and related compliance documents. NRC staff will use the policies and procedures discussed in Volume 1 to evaluate a licensee's decommissioning actions.

ADDRESSES: NUREG-1757, Volume 1, is available for inspection and copying for a fee at the Commission's Public Document Room, U.S. NRC's Headquarters Building, 11555 Rockville Pike (First Floor), Rockville, Maryland. The Public Document Room is open from 7:45 a.m. to 4:15 p.m., Monday through Friday, except on Federal holidays. NUREG-1757, Volume 1, is also available electronically from the ADAMS Electronic Reading Room on the NRC Web site at: http://www.nrc.gov/reading-rm/adams.html, and on the NRC Web site at: http://www.nrc.gov/reading-rm/doc-collections/nuregs/staff.

Copies of NUREG-1757, Volume 1, may also be purchased from one of these two sources: (1) The Superintendent of Documents, U.S. Government Printing Office, Mail Stop SSOP, Washington, DC 20402-0001; Internet: http://bookstore.gpo.gov/; telephone: 202-512-1800; fax: 202-512-2250; (2) The National Technical Information Service, Springfield, VA 22161-0002, Internet: www.ntis.gov; telephone 1-800-553-6847 or, locally, 703-605-6000.

FOR FURTHER INFORMATION, CONTACT: Duane W. Schmidt, Mail Stop T-7F27, U.S. Nuclear Regulatory Commission, Washington, DC 20555-0001. Telephone: (301) 415-6919; Internet: dws2@nrc.gov.

SUPPLEMENTARY INFORMATION: As part of its redesign of the materials license program, NMSS is consolidating and updating numerous decommissioning guidance documents into a three-volume NUREG report. The three volumes are as follows: (1) Decommissioning Process for Materials Licensees; (2) Characterization, Survey, and Determination of Radiological Criteria; and (3) Financial Assurance, Recordkeeping, and Timeliness. Volume 1 of this NUREG series, entitled “Consolidated NMSS Decommissioning Guidance: Decommissioning Process for Materials Licensees,” is the first of these three volumes and is intended for use by applicants, licensees, NRC license reviewers, other NRC personnel, and Agreement State staff.

The approaches to license termination described in Volume 1 of NUREG-1757 will help to identify the information (subject matter and level of detail) needed to terminate a license by considering the wide range of radioactive materials users licensed by NRC. Volume 1 of the NUREG provides guidance for planning and implementing the termination, under the License Termination Rule (10 CFR part 20, subpart E), of licenses issued through NMSS's licensing programs. Volume 1 incorporates the risk-informed and performance-based alternatives of the rule. Volume 1 updates and builds upon the risk-informed approach in, and in part incorporates, the NMSS Decommissioning Handbook (NUREG/BR-0241, “NMSS Handbook for Decommissioning Fuel Cycle and Materials Facilities,” March 1997). Volume 1 also incorporates the parts of the “NMSS Decommissioning Standard Review Plan,” NUREG-1727, September 2000, that provide guidance for developing those parts of a decommissioning plan addressing general site description and current radiological conditions; decommissioning activities, management, and quality assurance; and modifications to decommissioning programs and procedures. This final Volume 1 describes and makes available to the public (1) methods acceptable to the NRC staff in implementing specific parts of the Commission's regulations; (2) techniques and criteria used by the staff in evaluating decommissioning actions; and (3) guidance to licensees responsible for decommissioning NRC-licensed sites.

The guidance in final NUREG-1757, Volume 1, should be used by fuel cycle, fuel storage, and materials licensees in preparing decommissioning license amendment requests, decommissioning plans, and related compliance documents. Other NRC licensees, e.g., uranium recovery facilities and reactors, may find this information useful, but they are not the subject of this NUREG. NRC staff will use the policies and procedures discussed in Volume 1 to evaluate a licensee's decommissioning actions. This NUREG does not substitute for regulations, and compliance with it is not required. Methods and solutions different from those in this NUREG will be acceptable, if they provide a basis for concluding that the decommissioning actions are in compliance with the Commission's regulations.

Further information on the overall decommissioning guidance consolidation and updating project can be found in the Federal Register notice publishing the plan for the project (66 FR 21793).

Dated at Rockville, MD, this 20th day of September, 2002.
For the Nuclear Regulatory Commission
Larry W. Camper,
Chief, Decommissioning Branch, Division of Waste Management, Office of Nuclear Material Safety and Safeguards.

[FR Doc. 02-24440 Filed 9-25-02; 8:45 am]

BILLING CODE 7590-01-P